ENVIRONMENTAL PROTECTION AGENCY

40 CFR Part 3

[EPA-HQ-OEI-2003-0001; FRL-8743-3]

RIN 2025-AA23

Extension of Cross-Media Electronic Reporting Rule Deadline for Authorized Programs

AGENCY: Environmental Protection Agency (EPA).

ACTION: Withdrawal of direct final rule.

SUMMARY: Because EPA received comment, we are withdrawing the direct final rule for extension of the Cross-Media Electronic Reporting Rule (CROMERR) deadline for authorized programs (states, tribes, or local governments) with existing electronic document receiving systems to submit applications for EPA approval under CROMERR, published on October 17, 2008.

DATES: Effective November 21, 2008, EPA withdraws the direct final rule published at 73 FR 61737, on October 17, 2008.

FOR FURTHER INFORMATION CONTACT: Evi Huffer, Office of Environmental Information (2823T), Environmental Protection Agency, 1200 Pennsylvania Avenue, NW., Washington, DC 20460; (202) 566-1697; huffer.evi@epa.gov, or David Schwarz, Office of Environmental Information (2823T), Environmental Protection Agency, 1200 Pennsylvania Avenue, NW., Washington, DC 20460; (202) 566-1704; schwarz.david@epa.gov.

SUPPLEMENTARY INFORMATION: Because EPA received comment, we are withdrawing the direct final rule for extension of the Cross-Media Electronic Reporting Rule (CROMERR) deadline for authorized programs (states, tribes, or local governments) with existing electronic document receiving systems to submit applications for EPA approval under CROMERR, published on October 17, 2008. We stated in that direct final rule that if we received comment by November 3, 2008, the direct final rule would not take effect and we would publish a timely withdrawal in the Federal Register. We subsequently received comment on that direct final rule. We will address those comments in any subsequent final action, which will be based on the parallel proposed rule also published on October 17, 2008 (73 FR 61737). As stated in the direct final rule and the parallel proposed rule, we will not institute a second comment period on this action.

List of Subjects in 40 CFR Part 3

Environmental protection, Conflict of interests, Electronic records, Electronic reporting requirements, Electronic reports, Intergovernmental relations.

Dated: November 14, 2008.
Molly A. O'Neill,
Assistant Administrator and Chief Information Officer.

PART 3—[AMENDED]

Accordingly, the amendments to the rule published on October 17, 2008 (73 FR 61737) are withdrawn as of November 21, 2008.

[FR Doc. E8-27752 Filed 11-20-08; 8:45 am]

BILLING CODE 6560-50-P